PEACE CORPS

Information Collection Requests Under OMB Review; Proposed Collection of Information

AGENCY: Peace Corps.

ACTION: Submission for Office of Management and Budget (OMB) review; comment request.

SUMMARY: The Peace Corps will submit the following information collection request to the Office of Management and Budget (OMB) for approval. In compliance with the Paperwork Reduction Act of 1995 (44 U.S.C. Chapter 35), the Peace Corps invites the general public to comment on this request for approval of a new proposed information collection, Intelligence Background Questionnaire (OMB Control Number 0420—pending). This process is conducted in accordance with 5 CFR 1320.10.

DATES: Comments regarding this collection must be received on or before January 12, 2012.

ADDRESSES: Interested persons are invited to submit comments regarding this proposal. Comments should refer to the proposal by name/or OMB approval number and should be sent via email to: oira_submission@omb.eop.gov or fax to: (202) 395-3086. Attention: Desk Officer for Peace Corps.

FOR FURTHER INFORMATION CONTACT: Denora Miller, FOIA Officer, Peace Corps, 1111 20th Street NW., Washington, DC 20526, (202) 692-1236, or email at pcfr@peacecorps.gov. Copies of available documents submitted to OMB may be obtained from Denora Miller.

SUPPLEMENTARY INFORMATION: It has been the Peace Corps' longstanding policy to exclude from Peace Corps Volunteer service and Peace Corps employment any persons who have engaged in intelligence activity or related work or who have been employed by or connected with an intelligence Agency. It is crucial to the Peace Corps in carrying out its mission that there is a complete and total separation of Peace Corps from the intelligence activities of the United States government, both in reality and appearance. Any semblance of a connection between Peace Corps and the intelligence community would seriously compromise the ability of the Peace Corps to develop and maintain the trust and confidence of the people of the host countries. It could also put Volunteers at risk in the countries in which they serve.

Title: Intelligence Background Questionnaire.

OMB Control Number: 0420—pending.

Type of information collection: Existing collection in use without an OMB control number.

Affected public: Individuals or households.

Respondents' obligation to reply: Required to obtain or retain benefits.

Burden to the public:

(a) Estimated number of respondents: 100

(b) Frequency of response one time: one time

(c) Estimated average burden per response: 10 minutes

(d) Estimated total reporting burden: 16.67 hours

(e) Estimated annual cost to respondents: $0.00

General description of collection: Peace Corps' Office of the General Counsel uses the form to determine what kind of intelligence connection an applicant or an applicant's relative might have and how close an applicant and a relative with an intelligence connection are. The Office of the General Counsel uses the information to determine whether the intelligence connection is substantial enough to prevent the person from being employed at the Peace Corps or being a Volunteer for the Peace Corps permanently or for a set period of time from the last intelligence connection. If an applicant disagrees with the General Counsel's determination, he or she may appeal the determination to the Director of the Peace Corps.

This notice issued in Washington, DC, on December 5, 2011.
Garry W. Stanberry,
Deputy Associate Director, Management.

[FR Doc. 2011-31900 Filed 12-12-11; 8:45 am]

BILLING CODE 6051-01-P